DEPARTMENT OF DEFENSE

Department of the Army

Availability for Non-Exclusive, Exclusive, or Partially Exclusive Licensing of U.S. Patent Application Concerning Continuous Aimpoint Tracking System

AGENCY: Department of the Army, DOD.

ACTION: Notice.

SUMMARY: In accordance with 37 CFR 404.6 and 404.7, announcement is made of the availability for licensing of U.S. Patent Application No. 101/103,748, titled “Continuous Aimpoint Tracking System” and filed on March 22, 2002. The United States Government, as represented by the Secretary of the Army, has rights in this invention.

ADDRESSES: Commander, U.S. Army Aviation and Missile Command, ATTN: Operations of Research Technology Applications, AMSAM-RD-AS-TI-HI, Redstone Arsenal, AL 35898-5000.

FOR FURTHER INFORMATION CONTACT: Mr. Kelly McGuire at telephone 256/876-8743 or e-mail: kelly.mcguire@rdec.redstone.army.mil.

SUPPLEMENTARY INFORMATION: The Continuous Aimpoint Tracking System is comprised of a position detection device (PDD) and a laser pointing device (LDP) that projects an infrared crosshair onto the PDD. The PDD is coupled to a computer and comprises a multitude of photodiodes and associated circuits, the photodiodes being evenly spaced and arranged to form a frame that can be mounted on the computer so as to surround the computer video display. When a “shot” is fired from the LPD, the crosshair projection is interrupted briefly. The PDD determines the position of the four crosshair intersections and reports them to the computer which, in response, generates the video signals that form the resolved aimpoint on the screen, matching the LPD aimpoint to the video image. Further, the tracking system determines the rotation of the LPD over a range of at least 10 degrees clockwise or counter-clockwise.

Luz D. Ortiz,
Army Federal Register Liaison Officer.

[FR Doc. 03-16877 Filed 7-2-03; 8:45 am]

BILLING CODE 3710-08-M